NATIONAL SCIENCE FOUNDATION

Sunshine Act Meetings

Federal Register CITATION OF PREVIOUS ANNOUNCEMENT: The meeting was publicly noticed on April 25, 2025, at 90 FR 17471.

PREVIOUSLY ANNOUNCED TIME AND DATE OF THE MEETING: Tuesday, April 29, 2025, from 12:00 p.m. to 1:00 p.m., Eastern.

CHANGES IN THE MEETING: This meeting is being POSTPONED. A new notice will be published in the Federal Register when it is rescheduled

CONTACT PERSON FOR MORE INFORMATION: Point of contact for the change in this meeting is: Chris Blair, cblair@nsf.gov, 703/292-7000.

Ann Bushmiller,
Senior Counsel to the National Science Board.

[FR Doc. 2025-07625 Filed 4-29-25; 11:15 am]

BILLING CODE 7555-01-P